SURFACE TRANSPORTATION BOARD

49 CFR Chapter X

[Docket No. EP 735]

Revision to the Surface Transportation Board's CFR Chapter Heading Pursuant to the Surface Transportation Board Reauthorization Act of 2015

AGENCY: Surface Transportation Board.

ACTION: Final rule.

SUMMARY: The Surface Transportation Board (Board) is revising the heading to its CFR chapter, pursuant to the Surface Transportation Board Reauthorization Act of 2015.

DATES: Effective May 26, 2016.

FOR FURTHER INFORMATION CONTACT: Amy C. Ziehm: (202) 245-0391. Federal Information Relay Service (FIRS) for the hearing impaired: (800) 877-8339.

SUPPLEMENTARY INFORMATION: On December 18, 2015, the Surface Transportation Board Reauthorization Act of 2015, Public Law 114-110, 129 Stat. 2228 (2015) (STB Reauthorization Act), was enacted into law, removing the Board from the United States Department of Transportation (DOT), where it had been administratively housed, and establishing it as an independent Federal agency. 49 U.S.C. 701 (2012); STB Reauthorization Act section 3. Because 49 CFR chapter X is titled “Surface Transportation Board, Department of Transportation,” the Board is revising it to “Surface Transportation Board” to reflect the agency's independent status.

As this change is not substantive, we find good cause to dispense with notice and comment under the Administrative Procedure Act (APA).¹ 5 U.S.C. 553(b)(3)(A)-(B).

¹ Board procedures allow for the issue of final rules without notice or comment when those rules are interpretive, general statements of policy, or relate to organization, procedure, or practice before the Board. See 49 CFR 1110.3(a).

The Regulatory Flexibility Act (RFA), as amended by the Small Business Regulatory Enforcement Fairness Act of 1996, 5 U.S.C. 601-612, generally requires an agency to prepare a regulatory flexibility analysis of any rule subject to notice and comment rulemaking requirements, unless the agency certifies that the rule will not have a significant economic impact on a substantial number of small entities. Because the Board has determined that notice and comment are not required under the APA for this rulemaking, the requirements of the RFA do not apply.

This final rule does not contain a new or amended information collection requirement subject to the Paperwork Reduction Act of 1995, 44 U.S.C. 3501-3521.

It is ordered:

1. The rule modifications set forth below are adopted as final rules.

2. This decision is effective on May 26, 2016.

Decided: May 19, 2016.
By the Board, Chairman Elliott, Vice Chairman Miller, and Commissioner Begeman.
Marline Simeon,
Clearance Clerk.

For the reasons set forth in the preamble, under the authority of 49 U.S.C. 1321, the heading for title 49, chapter X, is revised to read as follows:

CHAPTER X—SURFACE TRANSPORTATION BOARD

[FR Doc. 2016-12346 Filed 5-25-16; 8:45 am]

BILLING CODE 4915-01-P